DEPARTMENT OF LABOR

Employment and Training Administration

[TA-W-80,374]

Stream Global Services, Inc., AdCenter, Beaverton, OR; Notice of a Revised Determination on Reconsideration

The initial investigation, initiated on August 17, 2011, resulted in a negative determination, issued on September 23, 2011, applicable to workers and former workers of Stream Global Services, Inc., Beaverton, Oregon. The determination was based on the Department's finding that the workers' firm did not produce an article, as required by the Trade Act of 1974, as amended.

As required by the Trade Adjustment Assistance Extension Act of 2011 (the TAAEA), the investigation was reopened for a reconsideration investigation to apply the requirements for worker group eligibility under chapter 2 of title II of the Trade Act of 1974, as amended by the TAAEA, to the facts of this petition. This investigation resulted in a negative determination, which was issued on January 25, 2012.

Pursuant to 29 CFR 90.18, an application for administrative reconsideration was filed on February 22, 2012. On April 27, 2012, the Department issued an Affirmative Determination Regarding Application for Reconsideration for the workers and former workers of Stream Global Services, Inc., Beaverton, Oregon.

During the administrative reconsideration investigation, the Department received additional information that clarified that the worker group is Stream Global Services, Inc., AdCenter, Beaverton, Oregon (subject firm). The Department also confirmed that the workers' firm is engaged in activities related to the supply of call center support services, which includes a range of mediums including electronic mails, telephone calls, and electronic “chat” functions. Specifically, the subject worker group includes workers involved in employment related to the supply of customer relationship management and business process outsourcing services. The subject worker group does not include on-site leased workers.

Based on information provided during the administrative reconsideration investigation, the Department determines that the worker group eligibility criteria set forth in TAAEA has been met.

Section 222(a)(1) has been met because a significant number or proportion of the workers in such workers' firm have become totally or partially separated, or are threatened to become totally or partially separated.

Section 222(a)(2)(B) has been met because the workers' firm has shifted to a foreign country the supply of services like or directly competitive with the customer relationship management and business process outsourcing services supplied by the workers, which contributed importantly to worker group separations at Stream Global Services, Inc., AdCenter, Beaverton, Oregon.

Conclusion

After careful review of the additional facts obtained on reconsideration, I determine that workers of Stream Global Services, Inc., AdCenter, Beaverton, Oregon, who are/were engaged in employment related to the supply of call center support services, meet the worker group certification criteria under Section 222(a) of the Act, 19 U.S.C. 2272(a). In accordance with Section 223 of the Act, 19 U.S.C. 2273, I make the following certification:

All workers of Stream Global Services, Inc., AdCenter, Beaverton, Oregon, who became totally or partially separated from employment on or after August 17, 2010, through two years from the date of certification, and all workers in the group threatened with total or partial separation from employment on the date of certification through two years from the date of certification, are eligible to apply for adjustment assistance under Chapter 2 of Title II of the Trade Act of 1974, as amended.

Signed in Washington, DC, this 31st day of August, 2012.
Del Min Amy Chen,
Certifying Officer, Office of Trade Adjustment Assistance.

[FR Doc. 2012-23283 Filed 9-20-12; 8:45 am]

BILLING CODE 4510-FN-P